DEPARTMENT OF DEFENSE

Department of the Army

Army Science Board 2009 March Plenary Meeting

AGENCY: Department of the Army, DoD.

ACTION: Notice of open meeting.

SUMMARY: Pursuant to the Federal Advisory Committee Act of 1972 (5 U.S.C., Appendix, as amended), the Sunshine in the Government Act of 1976 (U.S.C. § 552b, as amended) and 41 Code of the Federal Regulations (CFR §§ 102-3. 140 through 160, the Department of the Army announces the following committee meeting:

Name of Committee: Army Science Board (ASB).

Date(s) of March Plenary Meeting: March 24-25, 2009.

Time(s) of Meeting:

0800-1700, March 24, 2009.

0800-1700, March 25, 2009.

Place of Meeting: Massachusetts Institute of Technology, 77 Massachusetts Ave., Cambridge, MA 02139.

FOR FURTHER INFORMATION CONTACT: Army Science Board Studies Manager: Ms. Vivian Baylor, 703-604-7472.

SUPPLEMENTARY INFORMATION: Proposed Agenda: The purpose of the meeting is to update members on Army Science Board administrative matters, to conduct interim meetings of individual study subcommittees, and to tour laboratories and hear briefings on scientific/engineering topics of general interest to the ASB membership at MIT, Natick Soldier Systems Center, and MIT Lincoln Laboratory. It is expected that the first day will be spent on the MIT campus on Army Science Board matters, with the second day devoted to tours and briefings.

Filing Written Statement: Pursuant to 41 CFR 102-3.140d, the Committee is not obligated to allow the public to speak; however, interested persons may submit a written statement for consideration by the Subcommittees. Individuals submitting a written statement must submit their statement to the Designated Federal Officer (DFO) at the address detailed below. Written statements not received at least 10 calendar days prior to the meeting may not be provided to or considered by the subcommittees until the next meeting.

The DFO will review all timely submissions with the subcommittee Chairs and ensure they are provided to the specific subcommittee members before the meeting. After reviewing written comments, the subcommittee Chairs and the DFO may choose to invite the submitter of the comments to orally present their issue during a future open meeting.

The DFO, in consultation with the subcommittee Chairs, may allot a specific amount of time for the members of the public to present their issues for review and discussion. Written submissions are to be submitted to the following address: Army Science Board, ATTN: Designated Federal Officer, 2511 Jefferson Davis Highway, Suite 11500, Arlington, VA 22202-3911.

Brenda S. Bowen,
Army Federal Register Liaison Officer.

[FR Doc. E9-3891 Filed 2-23-09; 8:45 am]

BILLING CODE 3710-08-P